DEPARTMENT OF LABOR

Employment and Training Administration

Public Meeting; Federal Committee on Registered Apprenticeship

AGENCY: Employment and Training Administration, DOL.

ACTION: Notice of meeting.

SUMMARY: Pursuant to section 10 of the Federal Advisory Committee Act (Pub. Law 92-463; 5 U.S.C. APP. 1), notice is hereby given of a meeting of the Federal Committee on Registered Apprenticeship (FCRA).

Time and Date: The meeting will begin at 9:00 a.m. on Thursday, June 15, 2000 and continue until approximately 5:00 p.m. The meeting will reconvene at 9:00 a.m. on Friday, June 16, 2000, and continue until approximately 12:00 noon.

Place: The Jefferson Room East of the Hilton Washington and Towers, 1919 Connecticut Ave., N.W., Washington, D.C. 20009.

FOR FURTHER INFORMATION CONTACT: Mr. Anthony Swoope, Administrator, Office of Apprenticeship Training, Employer and Labor Services, Employment and Training Administration, U.S. Department of Labor, Room N-4649, 200 Constitution Avenue, N.W., Washington, D.C. 20210. Telephone: (202) 219-5921 (this is not a toll-free number)

Matters to be Considered: The agenda will focus on the following topics:

(1) Reports on the FCRA Work Groups

Marketing

Quality

Diversity

Resources/Data

Legislative

(2) Child Care Grants

(3) Discuss FCRA Recommendations

(4) Demonstration of apprenticeship Websites: Partnerships

(5) Progress Report on ATELS/BAT activities

(6) Next Meeting Dates and Location

(7) Public Comment

STATUS: Members of the public are invited to attend the proceedings. Individuals with disabilities should contact Marion Winters at (202) 219-5921 no later than June 9, 2000, if special accommodations are needed.

Any member of the public who wishes to file written data or comments pertaining to the agenda may do so by sending it to Mr. Anthony Swoope, Administrator, Office of Apprenticeship Training, Employer and Labor Services, Employment and Training Administration, U.S. Department of Labor, Room N-4649, 200 Constitution Avenue, N.W., Washington, D.C. 20210. Such submissions should be sent by June 9, 2000, to be included in the record for the meeting.

Any member of the public who wishes to speak at the meeting should indicate the nature of the intended presentation and the amount of time needed by furnishing a written statement to the Designated Federal official by June 9. The Chairperson will announce at the beginning of the meeting the extent to which time will permit the granting of such requests.

Signed at Washington, D.C., on May 26, 2000.
Raymond L. Bramucci,
Assistant Secretary for Employment and Training.

[FR Doc. 00-13849 Filed 6-1-00; 8:45 am]

BILLING CODE 4510-30-P